DEPARTMENT OF COMMERCE

International Trade Administration

[A-423-808]

Stainless Steel Plate in Coils From Belgium: Final Results of Antidumping Duty Administrative Review; 2012-2013

AGENCY: Enforcement and Compliance, International Trade Administration, U.S. Department of Commerce.

DATES: Effective Date: October 29, 2014.

SUMMARY: On June 25, 2014, the Department of Commerce (the Department) published the preliminary results of the antidumping duty administrative review on stainless steel plate in coils (steel plate) from Belgium.¹ This review covers one manufacturer/exporter of the subject merchandise: Aperam Stainless Belgium N.V. (ASB). The period of review (POR) is May 1, 2012, through April 30, 2013.

¹ See Stainless Steel Plate in Coils From Belgium: Preliminary Results of Antidumping Duty Administrative Review; 2012-2013, 79 FR 36001 (June 25, 2014) (Preliminary Results).

Based on our analysis of the comments received, we determine that ASB made sales at less than normal value. For the final weighted-average dumping margin, see the “Final Results of Review” section below.

FOR FURTHER INFORMATION CONTACT: Jolanta Lawska at 202-482-8362; AD/CVD Operations, Office III, Enforcement and Compliance, International Trade Administration, U.S. Department of Commerce, 14th Street and Constitution Avenue NW., Washington, DC 20230.

SUPPLEMENTARY INFORMATION:

Background

On June 25, 2014, the Department published in the Federal Register the Preliminary Results.

We invited interested parties to comment on the Preliminary Results. On July 25, 2014, the Department received case briefs from ASB and the Petitioners.² On July 31, 2014, ASB submitted a request for an extension of time to submit its rebuttal brief.³ On August 4, 2014, ASB submitted its rebuttal brief. However, on August 5, 2014, pursuant to 19 CFR 351.302(c) (2012), the Department found ASB's July 31, 2014, extension request untimely, and thus denied ASB's request for an extension of time to submit a rebuttal brief.⁴ Consequently, on the same day, pursuant to 19 CFR 351.104(a)(2)(iii) and 19 CFR 351.302(d), the Department rejected and removed ASB's untimely filed rebuttal brief from the record.⁵ In response, on August 5, 2014, ASB urged the Department to reconsider its decision.⁶ In the event that the Department chose not to allow the submission of ASB's rebuttal brief, ASB urged for Petitioners' case brief to be rejected and removed from the record since Petitioners failed to properly serve ASB with its case brief on July 25, 2014.⁷ On August 8 and 13, 2014, ASB reiterated its request to strike Petitioners' case brief.⁸ In their letters, dated August 7, 12, and 14, 2014, Petitioners stated that they properly served ASB with their case brief, and therefore, there was no basis to reject it.⁹ On August 15, 2014, the Department rejected ASB's multiple requests to strike Petitioners' case and refused to reconsider its decision to reject ASB's rebuttal brief.¹⁰

² Petitioners are Allegheny Ludlum Corporation, North American Stainless, United Auto Workers Local 3303, Zanesville Armco Independent Organization, and the United Steel, Paper and Forestry, Rubber, Manufacturing, Energy, Allied Industrial and Service Workers International Union (AFL-CIO/CLC).

³ See ASB's letter dated July 31, 2014.

⁴ See the Department's Letter to ASB dated August 5, 2014, Re: Antidumping Duty Administrative Review of Stainless Steel Plate from Coils from Belgium.

⁵ See the Department's Letter dated August 5, 2014, Re: Antidumping Duty Administrative Review of Stainless Steel Plate in Coils from Belgium.

⁶ See ASB's letter dated August 5, 2014.

⁷ See id. at 3.

⁸ See ASB's letters dated August 8 and 13, 2014.

⁹ See Petitioners' letters dated August 7, 12, and 14, 2014.

¹⁰ See the Department's Letter dated August 15, 2014, Subject: Rejection of Request to Strike Petitioner's Case Brief and to Reconsider Extending the Due Date for Filing Rebuttal.

No party requested a hearing.

Scope of the Order

The product covered by the Order is certain stainless steel plate in coils. Stainless steel is alloy steel containing, by weight, 1.2 percent or less of carbon and 10.5 percent or more of chromium, with or without other elements. The subject plate products are flat-rolled products, 254 mm or over in width and 4.75 mm or more in thickness, in coils, and annealed or otherwise heat treated and pickled or otherwise descaled.¹¹ The merchandise subject to this order is currently classifiable in the harmonized Tariff Schedule of the United States (HTSUS) at subheadings: 7219.11.00.30, 7219.11.00.60, 7219.12.00.02, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, and 7220.90.00.60. Although the HTSUS subheadings are provided for convenience and customs purposes, the written product description remains dispositive.

¹¹ For a full description of the scope of the order, see the Memorandum from Christian Marsh, Deputy Assistant Secretary for Antidumping and Countervailing Duty Operations, to Paul Piquado, Assistant Secretary for Enforcement and Compliance, titled “Stainless Steel Plate in Coils from Belgium: Decision Memorandum for the Final Results of Antidumping Duty Administrative Review; 2012-2013,” (Final Decision Memorandum), dated concurrently with and hereby adopted by this notice.

Analysis of Comments Received

All issues raised in the case briefs by the parties to this administrative review are addressed in the Issues and Decision Memorandum. For reasons described above, we did not accept ASB's rebuttal brief. Petitioners did not submit a rebuttal brief.

The Issues and Decision Memorandum is a public document and is on file in the Central Records Unit (CRU), room 7046 of the main Department of Commerce building, as well as electronically via the Enforcement and Compliance's Antidumping and Countervailing Duty Centralized Electronic Service System (IA ACCESS). IA ACCESS is available to registered users at http://iaaccess.trade.gov and in the CRU. In addition, a complete version of the Issues and Decision Memorandum can be accessed directly on the Internet at http://enforcement.ita.doc.gov/frn. The signed Issues and Decision Memorandum and the electronic versions of the Issues and Decision Memorandum are identical in content.

Changes Since the Preliminary Results

Based on our analysis of the comments received, we made certain changes to the margin calculations for ASB, which we discuss in the Issues and Decision Memorandum and Final Calculation Memorandum.¹²

¹² For a discussion of these changes, see Memorandum to the File titled, “Calculation Memorandum for Aperam Stainless Belgium N.V. (ASB) for the Final Results of the 12th Administrative Review of Stainless Steel Plate in Coils (Steel Plate) from Belgium,” (Final Calculation Memorandum), dated concurrently with this notice.

Final Results of Review

As a result of our review, we determined that the following weighted-average dumping margin exists for the period May 1, 2012, through April 30, 2013:

Manufacturer/exporter | Weighted- average dumping margin (percent)
Aperam Stainless Belgium N.V | 1.47

Assessment Rates

Pursuant to section 751(a)(2)(A) of the Tariff Act of 1930, as amended (the Act), the Department shall determine and U.S. Customs and Border Protection (CBP) shall assess antidumping duties on all appropriate entries. The Department intends to issue assessment instructions to CBP 15 days after the publication date of the final results of this review. Since the weighted-average dumping margin is above de minimis, we calculated importer-specific ad valorem duty assessment rates based on the ratio of the total amount of dumping calculated for the importer's examined sales to the total entered value of those same sales in accordance with 19 CFR 351.212(b)(1). We will instruct CBP to assess antidumping duties on all appropriate entries covered by this review since the importer-specific assessment rate calculated in the final results of this review is above de minimis (i.e., 0.50 percent). Where either a respondent's weighted-average dumping margin is zero or de minimis, or an importer-specific assessment rate is zero or de minimis, we instruct CBP to liquidate the appropriate entries without regard to antidumping duties.

The Department clarified its “automatic assessment” regulation on May 6, 2003.¹³ This clarification will apply to entries of subject merchandise during the POR produced by the respondent for which it did not know its merchandise was destined for the United States. In such instances, we will instruct CBP to liquidate unreviewed entries at the all-others rate if there is no rate for the intermediate company(ies) involved in the transaction. For a full discussion of this clarification, see Assessment Policy Notice.

¹³ See Antidumping and Countervailing Duty Proceedings: Assessment of Antidumping Duties, 68 FR 23954 (May 6, 2003) (Assessment Policy Notice).

Cash Deposit Requirements

The following antidumping duty deposit rates will be effective upon publication of the final results of this administrative review for all shipments of steel plate from Belgium entered, or withdrawn from warehouse, for consumption on or after the publication date of these final results, as provided for by section 751(a)(1) of the Act: (1) For ASB, the cash deposit rate will be the rate established in the final results of this review; (2) if the exporter is not a firm covered in this review, but was covered in a previous review or the original less-than-fair-value (LTFV) investigation, the cash deposit rate will continue to be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate will be 8.54 percent ad valorem, the “all-others” rate established in the LTFV investigation.¹⁴ These deposit rates, when imposed, shall remain in effect until further notice.

¹⁴ See Notice of Final Determination of Sales at Less Than Fair Value: Stainless Steel Plate in Coils from Belgium, 64 FR 15476 (March 31, 1999), as amended by Implementation of the Findings of the WTO Panel in U.S.—Zeroing (EC): Notice of Determinations Under Section 129 of the Uruguay Round Agreements Act and Revocations and Partial Revocations of Certain Antidumping Duty Orders, 72 FR 25261 (May 4, 2007).

Reimbursement of Duties

This notice also serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.¹⁵

¹⁵ See 19 CFR 351.402(f)(3).

Notification to Interested Parties

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction pursuant to 19 CFR 351.305(a)(5).

These final results of review are issued and published in accordance with sections 751(a)(1) and 777(i)(1) of the Act and 19 CFR 351.221(b)(5).

Dated: October 22, 2014.
Paul Piquado,
Assistant Secretary for Enforcement and Compliance.

\

Appendix

I. Summary

II. Background

III. Scope of the Order

IV. Discussion of Interested Party Comments

Comment 1: ASB's Stainless Steel Plate in Coils with an Actual Thickness of 4.75 mm

Comment 2: Bundled Pricing

Comment 3: Whether the Department Miscoded Excess Prime Merchandise and Non-prime Merchandise in its Preliminary Margin Calculations

Comment 4: Whether the Department Erred in Converting INVCARU from Euros to U.S. Dollars in its Preliminary Margin Calculations

V. Recommendation

[FR Doc. 2014-25746 Filed 10-28-14; 8:45 am]

BILLING CODE 3510-DS-P